DEPARTMENT OF AGRICULTURE

Agricultural Marketing Service

7 CFR Part 1207

[Docket No. FV-05-711]

Potato Research and Promotion Plan; Section 610 Review

AGENCY: Agricultural Marketing Service.

ACTION: Notice of regulatory review and request for comments.

SUMMARY: This document announces the Agricultural Marketing Service's (AMS) review of the Potato Research and Promotion Plan (conducted under the Potato Research and Promotion Act), under the criteria contained in Section 610 of the Regulatory Flexibility Act (RFA).

DATES: Written comments on this document must be received by February 13, 2006.

ADDRESSES: Interested persons are invited to submit written comments concerning this notice of review to the Docket Clerk, Research and Promotion Branch, Fruit and Vegetable Programs (FV), Agricultural Marketing Service (AMS), USDA, Stop 0244, Room 2535-S, 1400 Independence Avenue, SW., Washington, DC 20250-0244. Comments should be submitted in triplicate and will be made available for public inspection at the above address during regular business hours. Comments may also be submitted electronically to: Daniel.manzoni@usda.gov or Internet: http://www.regulations.gov. All comments should reference the docket number and the date and page number of this issue of the Federal Register. A copy of this notice may be found at: http://www.ams.usda.gov/fv/rpdocketlist.htm.

FOR FURTHER INFORMATION CONTACT: Daniel Rafael Manzoni, Research and Promotion Branch, FV, AMS, USDA, Stop 0244, 1400 Independence Avenue, SW., Room 2535-S, Washington, DC 20250-0244; telephone: (888) 720-9915; fax: (202) 205-2800; or e-mail: daniel.manzoni@usda.gov.

SUPPLEMENTARY INFORMATION: The Potato Research and Promotion Act of 1971, as amended, (7 U.S.C. 2611 et seq.) authorized the Potato Research and Promotion Plan which is industry operated and funded, with oversight by USDA. The Potato Research and Promotion Plan objective is to carry out an effective and continuous coordinated program of research, development, advertising, and promotion designed to strengthen potatoes' competitive position, and to maintain and expand domestic and foreign markets for potatoes and potato products.

The Potato Research and Promotion Plan (7 CFR part 1207) became effective on March 9, 1972 and was implemented on September 15, 1972 when assessments began. The plan was amended in May 1984, to increase the maximum assessment rate from 1 cent per hundredweight to 0.5 percent of the previous 10-year average price received by growers.

Assessments under this program are used to fund promotional campaigns and to conduct research in the areas of U.S. marketing, and international marketing and to enable it to exercise its duties in accordance with the Plan.

The Potato Research and Promotion Plan is administered by the National Potato Promotion Board (Board), which is composed of producer members, importer members, and one public member appointed by the Secretary of Agriculture from nominations submitted by eligible groups. Producer membership on the Board is based upon potato production within each State. Importer members, limited to five, are based upon the amount of potatoes, potato products, and seed potatoes imported into the U.S. All members serve terms of three years.

AMS published in the Federal Register (63 FR 8014; February 18, 1999) its plan to review certain regulations, including the Potato Research and Promotion Plan, (conducted under the Potato Research and Promotion Act), under criteria contained in Section 610 of the Regulatory Flexibility Act (RFA; 5 U.S.C. 601-612). The plan was updated in the Federal Register on August 14, 2003 (68 FR 48574). Because many AMS regulations impact small entities, AMS decided, as a matter of policy, to review certain regulations which, although they may not meet the threshold requirement under section 610 of the RFA, warrant review. Accordingly, this notice and request for comments is made for the Potato Research and Promotion Plan.

The purpose of the review is to determine whether the Potato Research and Promotion Plan should be continued without change, amended, or rescinded (consistent with the objectives of the Potato Research and Promotion Act of 1971) to minimize the impacts on small entities. AMS will consider the continued need for the Potato Research and Promotion Plan; the nature of complaints or comments received from the public concerning the Potato Research and Promotion Plan; the complexity of the Potato Research and Promotion Plan; the extent to which the Potato Research and Promotion Plan overlaps, duplicates, or conflicts with other Federal rules, and, to the extent feasible, with State and local regulations; and the length of time since the Potato Research and Promotion Plan has been evaluated or the degree to which technology, economic conditions, or other factors have changed in the area affected by the Potato Research and Promotion Plan.

Written comments, views, opinions, and other information regarding the Potato Research and Promotion Plan's impact on small businesses are invited.

Dated: December 8, 2005.
Lloyd C. Day,
Administrator, Agricultural Marketing Service.

[FR Doc. E5-7332 Filed 12-13-05; 8:45 am]

BILLING CODE 3410-02-P